DEPARTMENT OF ENERGY

Federal Energy Regulatory Commission

[Project No. 14436-000]

Kaweah River Power Authority; Notice of Preliminary Permit Application Accepted for Filing and Soliciting Comments, Motions To Intervene, and Competing Applications

On July 17, 2012, Kaweah River Power Authority, California, filed an application for a preliminary permit, pursuant to section 4(f) of the Federal Power Act (FPA), proposing to study the feasibility of the Terminus Project Incremental Generation Project to be located on the Kaweah River/Lake Kaweah near the town of Lemon Cove, Tulare County, Nevada. The project would affect federal lands and facilities administered by the U.S. Army Corps of Engineers (Corps). The sole purpose of a preliminary permit, if issued, is to grant the permit holder priority to file a license application during the permit term. A preliminary permit does not authorize the permit holder to perform any land-disturbing activities or otherwise enter upon lands or waters owned by others without the owners' express permission.

The proposed project would utilize the existing facilities under the Kaweah River Power Authority's licensed Terminus Power Project No. 3947 that include: (1) The 2,375-foot-long, 250-foot-high, earthfill, Corps, Terminus dam; (2) a 1,675-foot-long penstock; (3) a powerhouse containing one generating unit with a rated capacity of 20.09 megawatts (MW); (4) a 25-foot-long tailrace; (5) and a 2-mile-long, 66-kilovolt transmission line interconnecting the Terminus Project to an existing Southern California Edison Company transmission line.

The proposed project would consist of the three additional units: Unit 2, Unit 3 and Unit 4. The proposed Unit 2 would include: (1) A 6-MW Francis turbine; (2) a 470-foot-long, 6-foot-diameter steel penstock connecting to the existing Unit 1 penstock; and (3) a 50-foot-long by 40-foot-wide by 49-foot-tall concrete powerhouse. The proposed Unit 3 would include: (1) A 2-MW Francis turbine; and (2) a 3.5-foot-diameter low-flow conduit branching off from the existing Unit 1 penstock. The proposed Unit 4 would include a 1-MW Francis turbine and would be connected by an extension to the proposed 3.5-foot-diameter low-flow conduit. Unit 3 and Unit 4 would share a concrete powerhouse. The annual energy output of all three proposed units (9 MW) would be approximately 9.2 gigawatthours.

Applicant Contact: Gene Kilgore, Kaweah River Power Authority, 2975 North Farmersville Blvd., Farmersville, CA 93223; phone (559) 747-5604.

FERC Contact: Brian Csernak; phone: (202) 502-6144.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14436) in the docket number field to access the document. For assistance, contact FERC Online Support.

Dated: August 22, 2012.
Kimberly D. Bose,
Secretary.

[FR Doc. 2012-21178 Filed 8-27-12; 8:45 am]

BILLING CODE 6717-01-P